DEPARTMENT OF THE INTERIOR

Bureau of Land Management

[MT-060-01-1020-PG]

Notice of Public Meeting; Central Montana Resource Advisory Council

AGENCY: Bureau of Land Management, Interior.

ACTION: Notice of Public Meeting.

SUMMARY: In accordance with the Federal Land Policy and Management Act and the Federal Advisory Committee Act of 1972, the U.S. Department of the Interior, Bureau of Land Management (BLM) Central Montana Resource Advisory Council (RAC) will meet as indicated below.

DATES: The meeting will be held June 16 & 17, 2004, at the Great Northern Hotel in Malta, Montana. The June 16 meeting will begin at 1 p.m. with a 60-minute public comment period and will adjourn at 6 p.m. The June 17 meeting will begin at 8 a.m. with a 30-minute public comment period and will adjourn at 3 p.m.

SUPPLEMENTARY INFORMATION: This 15-member council advises the Secretary of the Interior on a variety of management issues associated with public lands in Montana. At this meeting the council will discuss:

The Blackleaf EIS scoping meetings;

The visitor use services category in the Monument RMP;

The definition of a road used in the Monument RMP;

The recent joint RAC meeting held in Phoenix;

The Region 6 prairie dog management guidelines; and

Field manager updates (time permitting).

All meetings are open to the public. The public may present written comments to the RAC. Each formal RAC meeting will also have time allocated for hearing public comments (as detailed above). Depending on the number of persons wishing to comment and time available, the time for individual oral comments may be limited.

FOR FURTHER INFORMATION CONTACT: Dave Mari, Lewistown Field Manager, Lewistown Field Office, Airport Road, Lewistown, Montana 59457, 406/538-7461.

Dated: May 19, 2004.
David L. Mari,
Lewistown Field Manager.

[FR Doc. 04-11812 Filed 5-24-04; 8:45 am]

BILLING CODE 4310-$$-P